DEPARTMENT OF ENERGY

Federal Energy Regulatory Commission

[Docket No. EG01-304-000]

Cementos Norte Pacasmayo Energia S.A.; Notice of Amendment to Application for Commission Determination of Exempt Wholesale Generator Status

November 8, 2001.

Take notice that on September 24, 2001, Cementos Norte Pacasmayo Energia S.A.(CNPE) tendered for filing with the Federal Energy Regulatory Commission (Commission), an amendment to its Application for Determination of Exempt Wholesale Generator Status filed with the Commission on September 7, 2001.

Any person desiring to be heard concerning the amended application for exempt wholesale generator status should file a motion to intervene or comments with the Federal Energy Regulatory Commission, 888 First Street, NE., Washington, DC 20426, in accordance with Rules 211 and 214 of the Commission's Rules of Practice and Procedure (18 CFR 385.211 and 385.214). The Commission will limit its consideration of comments to those that concern the adequacy or accuracy of the amended application. All such motions and comments should be filed on or before November 16, 2001, and must be served on the applicant. Any person wishing to become a party must file a motion to intervene. Copies of this filing are on file with the Commission and are available for public inspection. This filing may also be viewed on the web at http://www.ferc.gov using the “RIMS” link, select “Docket #” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-28590 Filed 11-14-01; 8:45 am]

BILLING CODE 6717-01-P